DEPARTMENT OF AGRICULTURE

Foreign Agricultural Service

Trade Adjustment Assistance for Farmers

AGENCY: Foreign Agricultural Service, USDA.

ACTION: Notice.

The Administrator, Foreign Agricultural Service (FAS), certified petitions for trade adjustment assistance (TAA) that were filed on September 15, 2003, by the United Fishermen of Alaska, Juneau, Alaska, and the Puget Sound Salmon Commission, Seattle, Washington. Salmon fishermen holding permits and licenses in the states of Alaska and Washington are now eligible to apply for program benefits.

SUPPLEMENTARY INFORMATION: Upon investigation, the Administrator determined that increased imports of frozen salmon fillets contributed importantly to a decline in the landed prices of salmon in Alaska and Washington by 34.6 and 32.6 percent, respectively, during January 2002 through December 2002, when compared with the previous 5-year average.

Producers certified as eligible for TAA may apply to the Farm Service Agency for benefits anytime prior to the application deadline of January 20, 2004. After submitting completed applications, producers shall receive technical assistance provided by the Extension Service at no cost and an adjustment assistance payment, if certain program criteria are met.

Producers of raw agricultural commodities wishing to learn more about TAA and how they may apply should contact the Department of Agriculture at the addresses provided below for General Information.

Producers Certified as Eligible for TAA, Contact: Local Farm Service Agency service center.

For General Information About TAA, Contact: Jean-Louis Pajot, Coordinator, Trade Adjustment Assistance for Farmers, FAS, USDA, (202) 720-2916. email: trade.adjustment@fas.usda.gov.

Signed at Washington, DC, on October 28, 2003.
A. Ellen Terpstra,
Administrator, Foreign Agricultural Service.

[FR Doc. 03-27959 Filed11-5-03; 8:45 am]

BILLING CODE 3410-10-M